DEPARTMENT OF TRANSPORTATION

Maritime Administration

[Docket No. MARAD-2018-0036]

Request for Comments on the Renewal of a Previously Approved Information Collection: Application for Waiver of the Coastwise Trade Laws for Small Passenger Vessels

AGENCY: Maritime Administration, DOT.

ACTION: Notice and request for comments.

SUMMARY: In compliance with the Paperwork Reduction Act of 1995, this notice announces that the Information Collection Request (ICR) abstracted below is being forwarded to the Office of Management and Budget (OMB) for review and comments. The information to be collected will be used to process applications for waivers of the coastwise trade laws, and to determine the effect such waivers would have on United States vessel builders and United States-built vessel operators before granting or denying the waiver request. A Federal Register Notice with a 60-day comment period soliciting comments on the following information collection was published on December 5, 2017.

DATES: Comments must be submitted on or before April 18, 2018.

ADDRESSES: Send comments regarding the burden estimate, including suggestions for reducing the burden, to the Office of Management and Budget, Attention: Desk Officer for the Office of the Secretary of Transportation, 725 17th Street NW, Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Michael Hokana, 202-366-0760, Office of Cargo and Commercial Sealift, Maritime Administration, U.S. Department of Transportation, 1200 New Jersey Avenue SE, Washington, DC 20590, Email: Michael.Hokana@dot.gov.

SUPPLEMENTARY INFORMATION:

Title: Application for Waiver of the coastwise Trade Laws for Small Passenger vessels.

OMB Control Number: 2133-0529.

Type of Request: Renewal of a Previously Approved Information Collection.

Abstract: Owners of small, foreign-built passenger vessels desiring a waiver of U.S. build requirement to operate commercially in the carriage of twelve passengers or less in domestic trade will be required to file a written application to the Maritime Administration (MARAD). The agency will review the application, post it for 30-days in the Federal Register to seek public comment, and then make a determination based on the record as to whether to grant the requested waiver or not.

Respondents: Small passenger vessel owners who desire to operate in the coastwise trade.

Affected Public: Business or other for Profit.

Estimated Number of Respondents: 138.

Estimated Number of Responses: 138.

Estimated Hours per Response: 1.

Annual Estimated Total Annual Burden Hours: 138.

Frequency of Response: Annually.

(Authority: The Paperwork Reduction Act of 1995; 44 U.S.C. Chapter 35, as amended; and 49 CFR 1.93.)

* * * * *

By Order of the Maritime Administrator.
Dated: March 14, 2018.
T. Mitchell Hudson, Jr.,
Secretary, Maritime Administration.

[FR Doc. 2018-05498 Filed 3-16-18; 8:45 am]

BILLING CODE 4910-81-P